DEPARTMENT OF HOMELAND SECURITY

Coast Guard

[Docket No. USCG-2004-19621]

Dry Cargo Residue Discharges in the Great Lakes

AGENCY: Coast Guard, DHS.

ACTION: Notice of availability and request for comments.

SUMMARY: The Coast Guard announces the availability of the Final Environmental Impact Statement (FEIS) which provides an assessment of the potential environmental impacts associated with the proposed regulation of residue resulting from the shipping of dry cargo on the Great Lakes. We request your comments on the Final Environmental Impact Statement (FEIS).

DATES: Comments and related material must reach the Docket Management Facility on or before September 22, 2008.

ADDRESSES: You may submit comments identified by Coast Guard docket number USCG-2004-19621 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590-0001.

(3) Hand delivery: Same as mail address above, between 9 a.m. and 5 p.m., Monday through Friday, except Federal holidays. The telephone number is 202-366-9329.

(4) Fax: 202-493-2251.

FOR FURTHER INFORMATION CONTACT: If you have questions on the Final Environmental Impact Statement (FEIS), please contact Mr. Greg Kirkbride, U.S Coast Guard, telephone 202-372-1479 or e-mail Gregory.B.Kirkbride@uscg.mil. If you have questions on viewing or submitting material to the docket, call Ms. Renee V. Wright, Program Manager, Docket Operations, telephone 202-366-9826.

Public Participation and Request for Comments

We encourage you to submit comments and related material on the Final Environmental Impact Statement (FEIS) for Dry Cargo Residue Discharges in the Great Lakes. All comments received will be posted, without change, to http://www.regulations.gov and will include any personal information you have provided. We have an agreement with the Department of Transportation to use the Docket Management Facility.

Submitting comments: If you submit a comment, please include the docket number for this notice (USCG-2004-19621), and give the reason for each comment. You may submit your comments and material by electronic means, mail, fax, or delivery to the Docket Management Facility at the address under ADDRESSES; but please submit your comments and material by only one means. We recommend that you include your name and a mailing address, an e-mail address, or a phone number in the body of your document so that we can contact you if we have questions regarding your submission. If you submit them by mail or delivery, submit them in an unbound format, no larger than 8½ by 11 inches, suitable for copying and electronic filing. If you submit them by mail and would like to know that they reached the Facility, please enclose a stamped, self-addressed postcard or envelope. We will consider all comments and material received during the comment period.

Viewing the comments and FEIS: To view the comments and Final Environmental Impact Statement (FEIS) go to http://www.regulations.gov at any time. Enter the docket number for this notice (USCG-2004-19621) in the Search box, and click “Go >>.” If you do not have access to the internet, you may view the docket online by visiting the Docket Management Facility in Room W12-140 on the ground floor of the Department of Transportation West Building, 1200 New Jersey Avenue, SE., Washington, DC 20590, between 9 a.m. and 5 p.m., Monday through Friday, except Federal holidays.

Privacy Act: Anyone can search the electronic form of all comments received into any of our dockets by the name of the individual submitting the comment (or signing the comment, if submitted on behalf of an association, business, labor union, etc.). You may review a Privacy Act system of records notice regarding our public dockets in the January 17, 2008 issue of the Federal Register (73 FR 3316).

Background and Purpose

The Final Environmental Impact Statement (FEIS) provides an assessment of the potential environmental impacts associated with the proposed regulation of residue resulting from the shipping of dry cargo on the Great Lakes. The preferred alternative would amend Coast Guard regulations in accordance with an existing policy that allows the discharge of nontoxic and nonhazardous bulk dry cargo residues in limited areas in the Great Lakes, with new requirements for recordkeeping and new designated special areas where discharges would be prohibited. The USCG has the authority to regulate such discharges on the Great Lakes under Section 623 of Public Law 108-293.

Dated: August 15, 2008.
Howard L. Hime,
Acting Director of Commercial Regulations and Standards, United States Coast Guard.

[FR Doc. E8-19525 Filed 8-21-08; 8:45 am]

BILLING CODE 4910-15-P